DEPARTMENT OF TRANSPORTATION

Office of the Secretary

Notice of Applications for Certificates of Public Convenience and Necessity and Foreign Air Carrier Permits Filed Under Subpart B (Formerly Subpart Q) During the Week Ending July 9, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18581-1.

Date Filed: July 6, 2004.

Due Date for Answers, Conforming Applications, or Motion to Modify Scope: July 27, 2004.

Description: Application of Atlantic Coast Airlines, requesting the Department; (1) issue the necessary disclaimer over the reincorporation of Atlantic Coast Airlines, and (2) reissue its certificate.

Docket Number: OST-2004-18594-1.

Date Filed: July 8, 2004.

Due Date for Answers, Conforming Applications, or Motion to Modify Scope: July 29, 2004.

Description: Application of BNJ Charter Company LLC (BNJC), requesting the Department amend the ownership condition found in BNJC's interstate and foreign charter certificates so that the carrier will only be required to remain under the ownership of NetJets, Inc.

Docket Number: OST-1999-6425-9.

Date Filed: July 9, 2004.

Due Date for Answers, Conforming Applications, or Motion To Modify Scope: July 30, 2004.

Description: Application of Polar Air Cargo, Inc., requesting renewal of its certificate authority to engage in scheduled foreign air transportation of property and mail between points in the United States and South Africa, as provided in its certificate of public convenience and necessity for Route 651. Polar further requests that this authority be renewed for a minimum of five years.

Andrea M. Jenkins,
Program Manager, Docket Operations, Federal Register Liaison.

[FR Doc. 04-17740 Filed 8-3-04; 8:45 am]

BILLING CODE 4910-62-P